TENNESSEE VALLEY AUTHORITY

[Meeting No. 14-04]

Sunshine Act Meeting

November 6, 2014.

The TVA Board of Directors will hold a public meeting on November 6, 2014, at The Music City Center (Room 202AB&C), 201 Fifth Avenue South, Nashville, Tennessee. The public may comment on any agenda item or subject at a public listening session which begins at 9 a.m. (CT). Following the end of the public listening session, the meeting will be called to order to consider the agenda items listed below. On-site registration will be available until 15 minutes before the public listening session begins at 9 a.m. (CT). Preregistered speakers will address the Board first. TVA management will answer questions from the news media following the Board meeting.

Status: Open.

Agenda

Chair's Welcome

Old Business

Approval of minutes of August 21, 2014, Board Meeting

New Business

1. Report from President and CEO

2. Report of the Finance, Rates, and Portfolio Committee

A. Financial Performance Update

B. Section 13 Tax Equivalent Payments

C. Generation Fleet Planning—Shawnee Fossil Plant Units 1 and 4

3. Report of the People and Performance Committee

A. Fiscal Year 2014 Performance and Compensation

B. CEO Compensation for Fiscal Year 2015

C. Bylaws Revision—Gender Inclusion

4. Report of the Audit, Risk, and Regulation Committee

A. Service Practice Standards

B. Conflict of Interest Policy

5. Report of the Nuclear Oversight Committee

6. Report of the External Relations Committee

7. Recognition of Departing Directors

For more information: Please call TVA Media Relations at (865) 632-6000, Knoxville, Tennessee. People who plan to attend the meeting and have special needs should call (865) 632-6000. Anyone who wishes to comment on any of the agenda in writing may send their comments to: TVA Board of Directors, Board Agenda Comments, 400 West Summit Hill Drive, Knoxville, Tennessee 37902.

Dated: October 30, 2014.
Clifford L. Beach,
Associate General Counsel and Assistant Secretary.

[FR Doc. 2014-26319 Filed 10-31-14; 4:15 pm]

BILLING CODE 8120-08-P